DEPARTMENT OF THE TREASURY

Alcohol and Tobacco Tax and Trade Bureau

27 CFR Part 9

[Docket No. TTB-2020-0005; Notice No. 190]

RIN 1513-AC60

Proposed Establishment of The Burn of Columbia Valley Viticultural Area

AGENCY: Alcohol and Tobacco Tax and Trade Bureau, Treasury.

ACTION: Notice of proposed rulemaking.

SUMMARY: The Alcohol and Tobacco Tax and Trade Bureau (TTB) proposes to establish the 16,870-acre “The Burn of Columbia Valley” viticultural area in Klickitat County, Washington. The proposed AVA is located entirely within the existing Columbia Valley AVA. TTB designates viticultural areas to allow vintners to better describe the origin of their wines and to allow consumers to better identify wines they may purchase. TTB invites comments on this proposed addition to its regulations.

DATES: TTB must receive your comments on or before July 27, 2020.

ADDRESSES: You may electronically submit comments to TTB on this proposal, and view copies of this document, its supporting materials, and any comments TTB receives on it within Docket No. TTB-2020-0005 as posted on Regulations.gov (https://www.regulations.gov), the Federal e-rulemaking portal. Please see the “Public Participation” section of this document below for full details on how to comment on this proposal via Regulations.gov, U.S. mail, or hand delivery, and for full details on how to view or obtain copies of this document, its supporting materials, and any comments related to this proposal.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels, and ensure that labels provide the consumer with adequate information as to the identity and quality of the product. The Alcohol and Tobacco Tax and Trade Bureau (TTB) administers the FAA Act pursuant to section 1111(d) of the Homeland Security Act of 2002, codified at 6 U.S.C. 531(d). The Secretary has delegated the functions and duties in the administration and enforcement of these provisions to the TTB Administrator through Treasury Order 120-01, dated December 10, 2013 (superseding Treasury Order 120-01, dated January 24, 2003).

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and provides that any interested party may petition TTB to establish a grape-growing region as an AVA. Section 9.12 of the TTB regulations (27 CFR 9.12) prescribes standards for petitions for the establishment or modification of AVAs. Petitions to establish an AVA must include the following:

• Evidence that the area within the proposed AVA boundary is nationally or locally known by the AVA name specified in the petition;

• An explanation of the basis for defining the boundary of the proposed AVA;

• A narrative description of the features of the proposed AVA that affect viticulture, such as climate, geology, soils, physical features, and elevation, that make the proposed AVA distinctive and distinguish it from adjacent areas outside the proposed AVA boundary;

• The appropriate United States Geological Survey (USGS) map(s) showing the location of the proposed AVA, with the boundary of the proposed AVA clearly drawn thereon;

• If the proposed AVA is to be established within, or overlapping, an existing AVA, an explanation that both identifies the attributes of the proposed AVA that are consistent with the existing AVA and explains how the proposed AVA is sufficiently distinct from the existing AVA and therefore appropriate for separate recognition; and

• A detailed narrative description of the proposed AVA boundary based on USGS map markings.

Petition To Establish The Burn of Columbia Valley AVA

TTB received a petition from Kevin Corliss, Vice President of Vineyards for Ste. Michelle Wine Estates, Joan R. Davenport, Professor of Soil Sciences at Washington State University, and John Derrick, Vice President of Operations for Mercer Ranches, Inc., proposing to establish “The Burn of Columbia Valley” AVA. The proposed AVA is located in Klickitat County, Washington, and is entirely within the existing Columbia Valley AVA (27 CFR 9.74). Within the 16,870-acre proposed AVA, there are three (3) commercial vineyards which cover a total of approximately 1,261 acres and are owned by two different entities. The petition was originally submitted under the name “The Burn,” but the petitioners later requested to change the name to the more geographically specific “The Burn of Columbia Valley.” The distinguishing features of the proposed The Burn of Columbia Valley AVA are its soils, climate, and topography.

Proposed The Burn of Columbia Valley AVA

Name Evidence

According to an excerpt from History of Klickitat County ¹ that was included in the petition, the origin of the name “The Burn” is uncertain. One theory is that the Native Americans in the region would burn the prairie grasses in order to discourage or frighten away settlers, while another theory is that the Native Americans regularly burned the area to insure adequate grass for their horses in the spring. A third explanation is that the dry east winds that blow through the region leave the farmers' wheat fields burned and shriveled. Regardless of the derivation of the name, the petition states that the region of the proposed AVA has been referred to as “The Burn” since at least the early 1900's, when mail destined for the area carried the designation “The Burn.”

¹ May, Peter. History of Klickitat County. Goldendale, WA: Klickitat Historical Society, 1982, p. 92.

The petition included evidence that the name “The Burn” continues to be used to describe the region of the proposed AVA into modern times. For example, the 1965 Goodnoe Hills and the 1971 Sundale, NW. U.S.G.S. topographic maps both label the region of the proposed AVA as “The Burn.” Although the current paper U.S.G.S. topographic maps do not label the region of the proposed AVA, the petition did include a screen shot of the current U.S.G.S. online National Map ² which shows the region between Rock Creek and Chapman Creek labeled as “The Burn.” The National Map also shows a road named “Burn Road” running through the region of the proposed AVA. In an email to TTB, one of the petitioners states that, based on her knowledge of the history of the region, the road derives its name from the common name for the region. The petition also included a page from a high school biology website that shows a photo of wildflowers growing “in an area of south-central Klickitat County known as The Burn.” ³ Finally, another web page included in the petition provides general information about Klickitat County and lists “The Burn” as an area within the county.⁴

² https://viewer.nationalmap.gov/advanced-viewer.

³ http://science.halleyhosting.com/nature/bloomtime/egorge/11/19.html.

⁴ http://www.us-places.com/Washington/Klickitat-County.htm.

Boundary Evidence

The proposed The Burn of Columbia Valley AVA is a roughly triangular region of gently sloping land in the southwestern portion of the established Columbia Valley AVA. The northern bank of the Columbia River forms the southern boundary of the proposed AVA (the base of the triangle) and separates the proposed AVA from the flatter terrain across the river in Oregon. The western boundary (the left edge of the triangle) follows Paterson Slough, Rock Creek, and the boundary of the trust lands held by the Yakima Nation. The petition states that the trust lands were not included in the proposed AVA due to their steeper slope angles and because tribal lands are excluded from commercial wine grape production. The eastern boundary of the proposed AVA (the right edge of the triangle) largely follows the bed of Chapman Creek and separates the proposed AVA from steeper regions with higher elevations.

Distinguishing Features

According to the petition, the distinguishing features of the proposed The Burn of Columbia Valley AVA are its soils, climate, and topography.

Soils

The petition states that there are 32 soil series found within the proposed The Burn of Columbia Valley AVA, although approximately 80 percent of the soils within the proposed AVA are derived from only 9 soil series or complexes. The following table lists the nine most commonly found soils within the proposed AVA, along with the percentage of the total soils each series or complex comprises.

Table 1—Most Common Soils of the Proposed AVA
Soil series/complex name | Percentage of total soils
Walla Walla silt loam (without cemented substratum) | 30.16
Rock outcrop-Haploxeroll complex | 13.57
Haploxeroll-Fluvaquent complex | 8.37
Fluventic Haploxeroll-Riverwash complex | 6.51
Rock outcrop Rubble and complex | 6.08
Wato silt loam | 4.85
Walla Walla silt loam (with cemented substratum) | 4.07
Endicott silt loam | 3.73
Endicott-Moxee complex | 2.55

According to the petition, the silty loam soils that comprise the majority of the proposed The Burn of Columbia Valley AVA have a good plant-available water holding capacity. Such soils are capable of delivering sufficient water to the vines during the growing season. The higher water holding capacity of the soils also means that vines which have been irrigated post-harvest will have adequate access to water through the winter and thus will have a reduced risk of frost or freeze injury to the roots. Finally, the petition states that the silty loam soils of the proposed AVA are in the taxonomic order Mollisols, which means they are relatively high in organic matter and can provide adequate nutrients to the vines, particularly nitrogen.

The soils of the region due west of the proposed The Burn of Columbia Valley AVA are the most similar to the soils of the proposed AVA, with Walla Walla silt loam without cemented substratum comprising 41.55 percent of the soils. However, 24.27 percent of the soils found in the region to the west are not found within the proposed AVA, including the Cheviot-Tronsen complex, the Goodnoe-Swalecreek-Horseflat complex, and Asotin silt loam. To the east and northeast of the proposed AVA, only 8.39 percent of the land contains the 9 types of soil that dominate the proposed AVA. Instead, the region contains sizeable amounts of soil that are not present within the proposed AVA, including the Renslow-Ralls-Wipple complex, Van Nostern silt loam, and Van Nostern-Bakeoven complex. To the south of the proposed AVA, only 14.60 percent of the soils are from the 9 series and complexes that are most prevalent within the proposed AVA. Soils present in the region to the south which are not present within the proposed AVA include Ritzville silt loam, Willis silt loam, and Roloff-Rock outcrop complex. To the northwest of the proposed AVA, the 9 soils that dominate the proposed AVA cover only 12.54 percent of the region. Soils found in the region but not in the proposed AVA include Colockum-Cheviot complex, Swalecreek-Rockly complex, and Goldendale silt loam.

Climate

The proposed The Burn of Columbia Valley AVA petition included information on the climate of the proposed AVA, including growing degree day ⁵ (GDD) accumulations and precipitation amounts. The climate information was developed from the weather records from 1981-2010 from the Western Regional Climate Center.⁶

⁵ See Albert J. Winkler et al., General Viticulture (Berkeley: University of California Press, 2nd. ed. 1974), pages 61-64. In the Winkler scale, the GDD regions are defined as follows: Region I = less than 2,500 GDDs; Region II = 2,501-3,000 GDDs; Region III = 3,001-3,500 GDDs; Region IV = 3,501-4,000 GDDs; Region V = greater than 4,000 GDDs.

⁶ https://wrcc.dri.edu.

The petition included information on the minimum, maximum, and average annual GDD accumulations for the proposed AVA and the surrounding regions for the period of record. The GDD information is compiled in the following table.

Table 2—Annual GDD Accumulations
Region | Average | Minimum | Maximum
Proposed AVA | 2,763 | 2,405 | 3,249
East-northeast | 2,414 | 1,723 | 3,298
South | 2,768 | 2,464 | 3,305
West | 2,570 | 1,766 | 3,191
Northwest | 2,178 | 1,570 | 2,995

The proposed AVA has higher average and minimum GDD accumulations than each of the surrounding regions except the region to the south, and a maximum GDD accumulation that is greater than two of the surrounding regions. The petition states that the higher average GDD accumulations within the proposed AVA indicate a climate that is warmer than most of the surrounding regions. The petition shows that GDD accumulations within the proposed AVA favor the production of grape varietals that have higher heat unit requirements, including Cabernet Sauvignon and Syrah, which are the two most commonly grown grape varietals in the proposed AVA.

The petition included information on the minimum, maximum, and average annual precipitation amounts for the proposed AVA and the surrounding regions for the period of record. The precipitation information is compiled in the following table.

Table 3—Annual Precipitation Amounts in Inches
Region | Average | Minimum | Maximum
Proposed AVA | 8.76 | 6.65 | 10.44
East-northeast | 10.23 | 6.80 | 11.63
South | 9.39 | 6.67 | 10.38
West | 9.81 | 7.03 | 12.53
Northwest | 11.58 | 10.45 | 12.69

The proposed The Burn of Columbia Valley AVA has average, minimum, and maximum annual precipitation amounts that are lower than those of each of the surrounding regions, except that the region to the south has a lower maximum annual precipitation amount. The petition states that the low rainfall amounts mean that vineyards in the proposed AVA need supplemental irrigation. However, the petition notes that because of the high water holding capacity of the soils of the proposed AVA, vines remain adequately hydrated.

Topography

The proposed AVA is located on gently sloping bench lands above the Columbia River. The average slope angle within the proposed AVA is 7.27 percent. The proposed AVA has a large contiguous expanse of land with easterly, southeasterly, and southern aspects. The petition also provided information about the average, maximum, and minimum elevations of the proposed AVA and the surrounding regions. However, the petition did not adequately describe the specific effects of elevation on viticulture, so TTB cannot consider elevation to be a distinguishing topographic feature of the proposed AVA.

When compared to the proposed AVA, each of the surrounding regions has higher average slope angles with the exception of the region to the south, which has a lower average slope angle. The regions to the west and northwest of the proposed AVA have predominately southerly aspects. The petition states that the regions to the south and east-northeast have predominately southeasterly aspects, similar to those of the proposed AVA. However, the petition states that the proposed AVA has a larger contiguous region with a southeasterly aspect.

The petition states that the gentle slopes of the proposed AVA are suitable for mechanical cultivation of vineyards, yet are steep enough to avoid the pooling of cold air that could damage grapes. The southeasterly aspect of the proposed AVA allows excellent sunlight exposure for vineyards.

Summary of Distinguishing Features

The following table summarizes the distinguishing features of the proposed The Burn of Columbia Valley AVA and the surrounding regions.

Table 4—Summary of Distinguishing Features
Region | Soils | Climate | Topography
Proposed The Burn of Columbia Valley AVA | Silty loam soils including Walla Walla silt loam without cemented substratum, relatively high organic material, high water holding capacity | Average annual GDD accumulations of 2,763, minimum annual GDD accumulations of 2,405, maximum annual GDD accumulations of 3,249; average annual precipitation of 8.76 inches, minimum annual precipitation of 6.65 inches, and maximum annual precipitation of 10.44 inches | Gently sloping bench lands with average slope angle of 7.27 percent and large contiguous expanse of land with easterly, southeasterly, and southern aspects.
East-northeast | Sizeable amount of soils that are not present in proposed AVA | Lower average and minimum annual GDD accumulation; Higher maximum annual GDD accumulations; Higher average, minimum, and maximum annual precipitation amounts | Higher slope angles, predominately southeasterly slope aspects.
South | Sizeable amount of soils that are not present in proposed AVA | Higher average, minimum, and maximum annual GDD accumulations; Higher average and minimum annual precipitation amounts; Lower maximum annual precipitation amounts | Lower slope angles, predominately southeasterly slope aspects.
West | Silty loam soils including Walla Walla silt loam without cemented substratum, but with soils not found in proposed AVA | Lower average, minimum, and maximum annual GDD accumulations; Higher average, minimum, and maximum annual precipitation amounts | Higher slope angles, predominately southerly slope aspects.
Northwest | Sizeable amount of soils that are not present in proposed AVA | Lower average, minimum, and maximum annual GDD accumulations; Higher average, minimum, and maximum annual precipitation amounts | Higher slope angles, predominately southerly slope aspects.

Comparison of the Proposed The Burn of Columbia Valley AVA to the Existing Columbia Valley AVA

The Columbia Valley AVA was established by T.D. ATF-190, which was published in the Federal Register on November 13, 1984 (49 FR 44895). T.D. ATF-190 describes the Columbia Valley AVA as a large, treeless basin surrounding the Yakima, Snake, and Columbia Rivers. Growing Degree Day accumulations within the Columbia Valley AVA range from 2,000 to 3,000, and annual precipitation amounts are between 6 and 22 inches. Elevations within the Columbia Valley AVA are generally below 2,000 feet.

The proposed The Burn of Columbia Valley AVA shares some of the general viticultural features of the larger Columbia Valley AVA. For instance, the average annual rainfall amounts and elevation within the proposed AVA are within the range of those features for the Columbia Valley AVA. However, the proposed AVA can accumulate over 3,000 GDDs annually, indicating a climate that is slightly warmer than most of the rest of the Columbia Valley AVA. Additionally, because the proposed The Burn of Columbia Valley AVA is much smaller than the Columbia Valley AVA, the proposed AVA has a greater uniformity of characteristics within its boundaries.

TTB Determination

TTB concludes that the petition to establish the 16,870-acre “The Burn of Columbia Valley” AVA merits consideration and public comment, as invited in this document.

Boundary Description

See the narrative boundary descriptions of the petitioned-for AVA in the proposed regulatory text published at the end of this document.

Maps

The petitioner provided the required maps, and they are listed below in the proposed regulatory text. You may also view the proposed The Burn of Columbia Valley AVA boundary on the AVA Map Explorer on the TTB website, at https://www.ttb.gov/wine/ava-map-explorer.

Impact on Current Wine Labels

Part 4 of the TTB regulations prohibits any label reference on a wine that indicates or implies an origin other than the wine's true place of origin. For a wine to be labeled with an AVA name or with a brand name that includes an AVA name, at least 85 percent of the wine must be derived from grapes grown within the area represented by that name, and the wine must meet the other conditions listed in § 4.25(e)(3) of the TTB regulations (27 CFR 4.25(e)(3)). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See § 4.39(i)(2) of the TTB regulations (27 CFR 4.39(i)(2)) for details.

If TTB establishes this proposed AVA, its name, “The Burn of Columbia Valley,” will be recognized as a name of viticultural significance under § 4.39(i)(3) of the TTB regulations (27 CFR 4.39(i)(3)). The text of the proposed regulation clarifies this point. Consequently, wine bottlers using “The Burn of Columbia Valley” in a brand name, including a trademark, or in another label reference as to the origin of the wine, would have to ensure that the product is eligible to use the viticultural area's name “The Burn of Columbia Valley.” TTB is not proposing to designate “The Burn,” standing alone, as a term of viticultural significance because the term “The Burn” is used to refer to multiple areas in the United States. Therefore, wine bottlers using “The Burn,” standing alone, in a brand name or in another label reference on their wines would not be affected by the establishment of this proposed AVA.

The approval of the proposed The Burn of Columbia Valley AVA would not affect any existing AVA, and any bottlers using “Columbia Valley” as an appellation of origin in a brand name for wines made from grapes grown within the Columbia Valley AVA would not be affected by the establishment of this new AVA. The establishment of the proposed The Burn of Columbia Valley AVA would allow vintners to use “The Burn of Columbia Valley” or “Columbia Valley” as appellations of origin for wines made from grapes grown within the proposed AVA, if the wines meet the eligibility requirements for the appellation.

Public Participation

Comments Invited

TTB invites comments from interested members of the public on whether TTB should establish the proposed The Burn of Columbia Valley AVA. TTB is interested in receiving comments on the sufficiency and accuracy of the name, boundary, topography, and other required information submitted in support of the AVA petition. In addition, because the proposed The Burn of Columbia Valley AVA would be within the existing Columbia Valley AVA, TTB is interested in comments on whether the evidence submitted in the petition regarding the distinguishing features of the proposed AVA sufficiently differentiates it from the existing AVA. TTB is also interested in comments on whether the geographic features of the proposed AVA are so distinguishable from the Columbia Valley AVA that the proposed The Burn of Columbia Valley AVA should no longer be part of the established AVA. Please provide any available specific information in support of your comments.

Because of the potential impact of the establishment of the proposed The Burn of Columbia Valley AVA on wine labels that include the term “The Burn of Columbia Valley” as discussed above under Impact on Current Wine Labels, TTB is particularly interested in comments regarding whether there will be a conflict between the proposed area names and currently used brand names. If a commenter believes that a conflict will arise, the comment should describe the nature of that conflict, including any anticipated negative economic impact that approval of the proposed AVA will have on an existing viticultural enterprise. TTB is also interested in receiving suggestions for ways to avoid conflicts, for example, by adopting a modified or different name for the proposed AVA.

Submitting Comments

You may submit comments on this proposal by using one of the following three methods:

• Federal e-Rulemaking Portal: You may send comments via the online comment form posted with this document within Docket No. TTB-2020-0005 on “Regulations.gov,” the Federal e-rulemaking portal, at https://www.regulations.gov. A direct link to that docket is available under Notice No. 190 on the TTB website at https://www.ttb.gov/wine/wine-rulemaking.shtml. Supplemental files may be attached to comments submitted via Regulations.gov. For complete instructions on how to use Regulations.gov, visit the site and click on the “Help” tab at the top of the page.

• U.S. Mail: You may send comments via postal mail to the Director, Regulations and Rulings Division, Alcohol and Tobacco Tax and Trade Bureau, 1310 G Street, NW, Box 12, Washington, DC 20005.

• Hand Delivery/Courier: You may hand-carry your comments or have them hand-carried to the Alcohol and Tobacco Tax and Trade Bureau, 1310 G Street NW, Suite 400, Washington, DC 20005.

Please submit your comments by the closing date shown above in this document. Your comments must reference Notice No. 190 and include your name and mailing address. Your comments also must be made in English, be legible, and be written in language acceptable for public disclosure. We do not acknowledge receipt of comments, and we consider all comments as originals.

Your comment must clearly state if you are commenting on your own behalf or on behalf of an organization, business, or other entity. If you are commenting on behalf of an organization, business, or other entity, your comment must include the entity's name as well as your name and position title. If you comment via Regulations.gov, please enter the entity's name in the “Organization” blank of the online comment form. If you comment via postal mail, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this document, selected supporting materials, and any online or mailed comments received about this proposal within Docket No. TTB-2020-0005 on the Federal e-rulemaking portal, Regulations.gov, at https://www.regulations.gov. A direct link to that docket is available on the TTB website at https://www.ttb.gov/wine/wine-rulemaking.shtml under Notice No. 190. You may also reach the relevant docket through the Regulations.gov search page at https://www.regulations.gov. For instructions on how to use Regulations.gov, visit the site and click on the “Help” tab at the top of the page.

All posted comments will display the commenter's name, organization (if any), city, and State, and, in the case of mailed comments, all address information, including email addresses. TTB may omit voluminous attachments or material that it considers unsuitable for posting.

You also may view copies of this document, all related petitions, maps and other supporting materials, and any electronic or mailed comments we receive about this proposal by appointment at the TTB Public Reading Room, 1310 G Street, NW, Suite 400, Washington, DC 20005. You may also obtain copies at 20 cents per 8.5- x 11-inch page. Contact TTB's Regulations and Rulings Division at the above address, by email using the web form at https://www.ttb.gov/contact-rrd, or by telephone at 202-453-1039, ext. 175, to schedule an appointment or to request copies of comments or other materials.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

It has been determined that this proposed rule is not a significant regulatory action as defined by Executive Order 12866. Therefore, no regulatory assessment is required.

Drafting Information

Karen A. Thornton of the Regulations and Rulings Division drafted this document.

List of Subjects in 27 CFR Part 9

Wine.

Proposed Regulatory Amendment

For the reasons discussed in the preamble, we propose to amend title 27, chapter I, part 9, Code of Federal Regulations, as follows:

PART 9—AMERICAN VITICULTURAL AREAS

1. The authority citation for part 9 continues to read as follows:

Authority: 27 U.S.C. 205.

Subpart C—Approved American Viticultural Areas

2. Add § 9.__to read as follows:

§ 9.__ The Burn of Columbia Valley.

(a) Name. The name of the viticultural area described in this section is “The Burn of Columbia Valley”. For purposes of part 4 of this chapter, “The Burn of Columbia Valley” is a term of viticultural significance.

(b) Approved maps. The four United States Geological Survey (USGS) 1:24,000 scale topographic maps used to determine the boundary of The Burn of Columbia Valley viticultural area are titled:

(1) Sundale NW, OR-WA, 2017;

(2) Goodnoe Hills, WA, 2017;

(3) Dot, WA, 2017; and

(4) Sundale, WA-OR, 2017.

(c) Boundary. The Burn of Columbia Valley viticultural area is located in Klickitat County in Washington. The boundary of The Burn of Columbia Valley viticultural area is as described below:

(1) The beginning point is on the Sundale NW map, at the intersection of the Columbia River and the east shore of Paterson Slough. From the beginning point, proceed northerly along the east shore of Paterson Slough to its junction with Rock Creek, and continuing northeasterly along Rock Creek to its intersection with the boundary of the Yakima Nation Trust Land; then

(2) Proceed south, then east, then generally northeasterly along the boundary of the Yakima Nation Trust Land, crossing onto the Goodnoe Hills map, to the intersection of the Trust Land boundary with Kelley Road; then

(3) Proceed north in a straight line to the intersection with the main channel of Chapman Creek; then

(4) Proceed southeasterly (downstream) along Chapman Creek, crossing over the Dot map and onto the Sundale map, to the intersection of Chapman Creek with its southernmost tributary; then

(5) Proceed due east in a straight line to the creek running through Old Lady Canyon; then

(6) Proceed southerly along the creek to its intersection with the northern shoreline of the Columbia River; then

(7) Proceed westerly along the northern shoreline of the Columbia River, returning to the beginning point.

Signed: March 31, 2020.
Mary G. Ryan,
Acting Administrator.
Approved: May 13, 2020.
Timothy E. Skud,
Deputy Assistant Secretary (Tax, Trade, and Tariff Policy).

[FR Doc. 2020-10921 Filed 5-26-20; 8:45 am]

BILLING CODE 4810-31-P